DEPARTMENT OF TRANSPORTATION

Federal Aviation Administration

14 CFR Part 39

[Docket No. FAA-2010-0611; Directorate Identifier 2009-SW-18-AD; Amendment 39-16487; AD 2010-22-08]

RIN 2120-AA64

Airworthiness Directives; Eurocopter France Model AS 350 B, BA, B1, B2, B3, and D, and Model AS355 E, F, F1, F2, and N Helicopters

AGENCY: Federal Aviation Administration (FAA), Department of Transportation (DOT).

ACTION: Final rule; correction.

SUMMARY: The FAA is correcting an airworthiness directive (AD) that was published in the Federal Register. That AD applies to the specified model helicopters. Table 1 of the AD has two part numbers that do not contain the “SC” prefix. This document adds the prefix and corrects that error. In all other respects, the original document remains the same.

DATES: This final rule is effective December 22, 2010. The effective date for AD 2010-22-08 remains November 26, 2010.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: DOT/FAA Southwest Region, Matt Wilbanks, ASW-111, Aviation Safety Engineer, Rotorcraft Directorate, Regulations and Policy Group, 2601 Meacham Blvd., Fort Worth, Texas 76137, telephone (817) 222-5051, fax (817) 222-5961.

SUPPLEMENTARY INFORMATION: This AD, Amendment 39-16487 (75 FR 65222, October 22, 2010), requires replacing all servo-controls that are identified in the Applicability section, Table 1, of the AD.

As published, two part numbers shown in Table 1 on Federal Register page 65224, under item 2. of PART 39—AIRWORTHINESS DIRECTIVES section, are incorrect. The first incorrect part number (P/N) is “5084;” the correct P/N is “SC5084.” The second incorrect P/N is “5084-1;” the correct P/N is “SC5084-1.” The other P/Ns shown in Table 1 remain unchanged.

No other part of the preamble or regulatory information has been changed; therefore, only Table 1 of the final rule is being published in the Federal Register.

The effective date of this AD is November 26, 2010.

Correction of Regulatory Text

§ 39.13 [Corrected]

In the Federal Register document 2010-26565, filed October 21, 2010 and published on October 22, 2010 (75 FR 65222), on pages 65223 and 65224, Table 1 containing the part numbers 5084 and 5084-1 without the correct prefix “SC” is corrected to read as follows:

Table 1
Component | Part No. (P/N) | Serial No. (S/N)
Main rotor servo-control | P/N SC5083 | S/N 270M, 272M, 409M, 423M, 452M, or 1573.
| P/N SC5083-1 | S/N 2902 through 2921, inclusive.
| P/N SC5084 | S/N 30, 84, 104, 186, 438, 575, or 695.
| P/N SC5084-1 | S/N 1462 through 1481, inclusive.
Tail rotor servo-control | P/N SC5072 | S/N 222M, 306M, or 309.

Issued in Fort Worth, Texas, on December 10, 2010.
Lance T. Gant,
Acting Manager, Rotorcraft Directorate, Aircraft Certification Service.

[FR Doc. 2010-31964 Filed 12-21-10; 8:45 am]

BILLING CODE 4910-13-P